DEPARTMENT OF DEFENSE

Department of the Army; Corps of Engineers

Intent To Prepare a Draft Supplemental Environmental Impact Statement (DSEIS) on the Mississippi River—Gulf Outlet, New Lock and Connecting Channels, LA

AGENCY: Department of the Army, U.S. Army Corps of Engineers, DoD.

ACTION: Notice of intent.

SUMMARY: The U.S. Army Corps of Engineers (Corps), New Orleans District intends to prepare a Draft Supplemental Environmental Impact Statement (DSEIS) to evaluate potential impacts of the construction of a replacement lock in the Industrial Canal located in New Orleans, LA. The original EIS, Main Report and Final Environmental Impact Statement for the Mississippi River—Gulf Outlet, New Lock and Connecting Channels, Louisiana (Evaluation Report and EIS) issued in March 1998 focused on the potential impacts of construction of a new lock, including impacts to the local community and supporting infrastructure.

After evaluating the March 1998 EIS, the Corps issued a Record of Decision (ROD) on December 18, 1998 selecting the location and construction method of the replacement lock and several additional project components to improve the surrounding project area. The Corps decision was challenged in United States District Court and the Court's Order on Motions for Summary Judgment was issued on October 3, 2006 as part of Case No. 2:03-cv-00370-EEF-KWR, United States District Court Eastern District of Louisiana. The Courts' decision enjoined the Corps from continuing with the project until additional compliance with the National Environmental Policy Act (NEPA) is completed. Accordingly, the Corps is preparing a SEIS.

DATES: The Corps plans to hold a public scoping meeting on April 4, 2007, at 6 p.m. CST.

ADDRESSES: The meeting will be held at Holy Cross School, 4950 Dauphine Street, New Orleans, LA 70117.

FOR FURTHER INFORMATION CONTACT: Questions about the proposed action and DSEIS can be answered by: Mr. Royce Kemp, U.S. Army Corps of Engineers, Environmental Planning and Compliance Branch, P.O. Box 60267, New Orleans, LA 70160-0267, by e-mail at Royce.B.Kemp@mvn02.usace.army.mil, or by telephone at (504) 862-2675.

SUPPLEMENTARY INFORMATION: 1. Project Background and Authorization. The Inner Harbor Navigation Canal (IHNC) connects the Mississippi River, the Gulf Intracoastal Waterway (GIWW), the Mississippi River—Gulf Outlet (MR-GO), the Industrial Canal (also known as the Inner Harbor Navigation Canal), and Lake Pontchartrain. The existing lock, located between the St. Claude and Claiborne Avenue Bridges, was commissioned in 1923 to allow vessel traffic from the Mississippi River to Lake Pontchartrain and permit industrial development away from the river. During World War II, the GIWW was rerouted through the IHNC. Since the 1960s when a connection was made with the MR-GO, barge and ship traffic has greatly increased and the existing lock can no longer accommodate navigational needs efficiently through the IHNC. Because it was anticipated barge and ship traffic would increase, the lock replacement project was authorized in Chapter 112 of the River and Harbors and Flood Control Act of 1956 for the construction of a new lock when the existing lock was determined to become obsolete.

In March of 1998, the Corps issued a Final EIS analyzing several alternatives and recommending construction of a new lock north of the Claiborne Bridge, replacement of the St. Claude Avenue Bridge, modification of the Claiborne Bridge, extension of the Mississippi River flood protection levees and floodwalls, a socio-economic mitigation plan, and a fish and wildlife mitigation plan. This DSEIS will update and supplement the 1998 Final EIS to determine if any significant changes are necessary to the project and to ensure sufficient environmental analysis of project impacts.

2. Proposed Action. The purpose of the proposed lock construction is to provide more efficient navigational traffic through the IHNC by constructing a new, larger lock. The need for this project arises from the long delays in passage through the IHNC occurring from increased traffic and the small size of the current lock which can not accommodate the volume of existing and future traffic. The purpose of the DSEIS is to better evaluate the analysis and handling of dredged material generated during the construction phase, the engineering design of confined disposal areas, and several aspects of the project which may have changed since the original EIS in 1998, to include any significant new circumstances relevant to environmental concerns that have arisen since Hurricane Katrina.

3. Alternatives. An evaluation of alternatives, including a “No Action” alternative will be done. In this DSEIS, the “No Action” alternative will be the course of action as decided upon in the 1998 ROD and as further described in the 1998 EIS. Other alternatives will be determined through scoping, but are expected to include methods of dredging, dredged material handling and disposal alternatives, and construction of the lock by the cast-in-place method versus a float-in construction method.

4. Scoping. The Council on Environmental Quality regulations at 40 CFR § 1501.7 require an early and open process for determining the scope of an EIS and for identifying significant issues related to the proposed action. The public will be involved in the scoping and evaluation process through advertisements, notices, and other means. At a minimum, all parties who have expressed interest in the IHNC will be given the opportunity to participate in this process. Federal, State and local agencies, and other interested groups will also be involved. Meetings to address discrete issues or parts or functions of the project area may be called. All parties are invited to participate in the scoping process by identifying any additional concerns on issues, studies needed, alternatives, procedures, and other matters related to the scope of the SEIS.

a. A public scoping meeting is scheduled for (see DATES). The Corps will provide additional notification of the meeting time and location through newspaper advertisements and other means. Following a short presentation on the planned SEIS, verbal and written comments on the scope of the SEIS will be accepted. A transcript of verbal comments will be generated to ensure accuracy. To submit comments on the scope of the Mississippi River—Gulf Outlet, New Lock and Connecting Channels, Louisiana SEIS or to request copies of materials related to this effort as they become available to the public, contact: Mr. Royce Kemp, U.S. Army Corps of Engineers, Environmental Planning and Compliance Branch, P.O. Box 60267, New Orleans, LA 70160-0267, by e-mail at Royce.B.Kemp@mvn02.usace.army.mil, or by telephone at (504) 862-2675.

b. Issues. In addition to updating and supplementing the information from the 1998 EIS, the following issues have been identified for analysis in the SEIS. This list is preliminary and is intended to facilitate public comment on the scope of the SEIS. The SEIS will consider the scope of contamination of sediments to be dredged as a result of this project, reasonable dredging and disposal alternatives and associated impacts, socio-economic changes from the prior EIS and now since Hurricane Katrina. Furthermore, the Corps will ensure that environmental compliance through the NEPA process will be maintained with all applicable environmental laws, regulations, and executive orders governing associated issues such as Federally listed threatened and endangered species, essential fish habitats, health and safety, economics, general environmental concerns, wetlands and other aquatic resources, historic properties, fish and wildlife values, flood hazards, navigation, recreation, water quality, property ownership considerations, and, in general, the needs and welfare of the people, and other issues identified through scoping, public involvement, and interagency coordination. The Corps expects to better define the issues of concern and define the methods that will be used to evaluate those issues through the scoping process.

c. Coordination. The proposed action is being coordinated with a number of Federal, state, regional, and local agencies including but not limited to the following: U.S. Fish and Wildlife Service, National Marine Fisheries Service, U.S. Environmental Protection Agency, Louisiana Department of Environmental Quality, State Historic Preservation Officer, and other agencies as identified in scoping, public involvement, and agency coordination. The Corps invites Federal agencies, American Indian Tribal Nations, state and local governments, and other interested private organizations and parties to attend the public scoping meeting and to comment on the scope of the planned Mississippi River—Gulf Outlet, New Lock and Connecting Channels, Louisiana SEIS.

d. Other Environmental Review and Consultation. The proposed action will involve an evaluation for compliance with all applicable guidelines pursuant to section 404(b) of the Clean Water Act. This review will involve a detailed evaluation of all practicable alternatives to the handling and disposal of the dredged material generated from this project.

e. Agency Role. The Corps will provide extensive information and assistance on the resources to be impacted, mitigation measures, and alternatives. Although the Corps does not plan to invite any Federal agencies to be cooperating agencies, we expect to receive input and critical information from the U.S. Environmental Protection Agency, the U.S. Fish and Wildlife Service and other Federal, state, and local agencies.

5. Public Scoping Meeting. The Corps plans to hold a public scoping (see DATES and ADDRESSES).

Special Accommodations: This meeting place is physically accessible to people with disabilities. Requests for sign language interpretation or other auxiliary aids should be directed to Royce Kemp, (504) 862-2675 (voice) or (504) 862-2088 (fax), at least 5 business days prior to the meeting date.

6. Estimated Date of Availability. It is estimated that the Draft SEIS will be available to the public in July 2008. At least one additional public meeting will be held at that time, during which the public will be provided the opportunity to comment on the Draft SEIS before it becomes final.

Dated: March 19, 2007.
Richard P. Wagenaar,
Colonel, U.S. Army, District Engineer.

[FR Doc. E7-5906 Filed 3-29-07; 8:45 am]

BILLING CODE 3710-84-P